FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 24, 2009.

A. Federal Reserve Bank of Atlanta (Steve Foley, Vice President) 1000 Peachtree Street, N.E., Atlanta, Georgia 30309:

1. Karl Brent Vidrine, Executor for the Estate of Thelma Cummings Guilbeau, Sunset, Louisiana; to retain voting shares of Sunset Bancorp, Inc., and thereby indirectly retain voting shares of Bank of Sunset & Trust Company, both of Sunset, Louisiana.

B. Federal Reserve Bank of Kansas City (Dennis Denney, Assistant Vice President) 1 Memorial Drive, Kansas City, Missouri 64198-0001:

1. The Terry Beach Edwards Living Trust: The Ross Beach Living Trust; The Marianna Beach Living Trust; The 2009 Marianna Beach Irrevocable Trust; and Terry Beach Edwards, all of Hutchinson, Kansas; individually and as trustee, acting as a group in concert to retain control of Kansas Natural Gas, Inc., Hays, Kansas, and thereby indirectly retain control of Douglas County Bank, Lawrence, Kansas.

Board of Governors of the Federal Reserve System, December 4, 2009.
Robert deV. Frierson,
Deputy Secretary of the Board.

[FR Doc. E9-29319 Filed 12-8-09; 8:45 am]

BILLING CODE 6210-01-S